DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 9, 2002.

Interested persons are invited to submit written comments regarding the subject matter of the investigations to the Director, Division of Trade Adjustment Assistance, at the address shown below, not later than December 9, 2002.

The petitions filed in this case are available for inspection at the Office of the Director, Division of Trade Adjustment Assistance, Employment and Training Administration U.S. Department of Labor, Room C-5311, 200 Constitution Avenue, NW., Washington, DC 20210.

Signed in Washington, DC this 15th day of October, 2002.
Edward A. Tomchick,
Director, Division of Trade Adjustment Assistance.

Appendix—Petitions Instituted on October 15, 2002
TA-W | Subject firm (petitioners) | Location | Date of petition | Product(s)
42,228 | Pent Products, Inc. (Comp) | Ashley, AL | 09/23/2002 | Electrical harnesses.
42,229 | Dana Corp. (UAW) | Syracuse, IN | 09/25/2002 | Machining of cases and carriers.
42,230 | Flowserve US, Inc. (Wkrs) | Williamsport, PA | 09/27/2002 | Nuclear valves.
42,231 | Doe Run Resources Corp. (Comp) | Viburnum, MO | 09/25/2002 | Zinc and lead concentrates.
42,232 | Nilfisk—Advance, Inc. (Wkrs) | Plymouth, MN | 09/26/2002 | Parts for vacuums, industrial sweepers.
42,233 | M J Soffe (Wkrs) | Wallace, NC | 08/21/2002 | Military T-shirts.
42,234 | Joy Mining Machinery (Wkrs) | Mt. Vernon, IL | 09/23/2002 | Frame gathering heads and traction.
42,235 | Cattiva, Inc. (Comp) | New York, NY | 10/02/2002 | Women's dresses.
42,236 | Consolidated Freightways (Wkrs) | York, PA | 09/26/2002 | Trucking services.
42,237 | Penn American Coal Co. (Wkrs) | Black Lick, PA | 09/24/2002 | Coal.
42,238 | Eichleay Engineers (Comp) | Pittsburgh, PA | 09/30/2002 | Construction and engineering service.
42,239 | Aerovox, Inc. (Comp) | Huntsville, AL | 09/26/2002 | Aluminum foil.
42,240 | RBX Industries, Inc. (Comp) | Colt, AR | 10/01/2002 | Cell foam rubber insulation.
42,241 | Siemens Medical Solutions (Comp) | Issaquah, WA | 09/16//2002 | Arrays and transducers.
42,242 | Super Shrimp, Inc. (Wkrs) | Yuma, AZ | 09/19/2002 | Pack and distribute shrimp.
42,243 | Consolidated Freight Ways (Wkrs) | El Paso, TX | 09/23/2002 | Transporting of products.
42,244 | X-Cell Tool and Mold, Inc (Comp) | Erie, PA | 09/23//2002 | Plastic injection molds and components.
42,245 | La Grange Foundry (GMP) | La Grange, MO | 09/18//2002 | Gray iron and ductile casings.
42,246 | Radiall/Larsen Antenna (Comp) | Vancouver, WA | 09/23/2002 | Base station antennas.
42,247 | Tecmotiv Corporation (Comp) | Tonawanda, NY | 08/30/2002 | Automobile steering gear boxes.
42,248 | Kasper Machine Company (Comp) | Madison Heights, MI | 09/18/2002 | Precision turning and boring machines.
42,249 | Enviro Systems Furniture (Comp) | Grand Rapids, MI | 09/23/2002 | Office furniture.
42,250 | E.J. Snyder and Co., Inc. (Comp) | Albermarle, NC | 09/04/2002 | Dye and finish cotton knit cloth.
42,251 | Southwestern Glass Co. (Comp) | Van Buren, AR | 10/01/2002 | Hand glass.

[FR Doc. 02-30059 Filed 11-26-02; 8:45 am]

BILLING CODE 4510-30-M